DEPARTMENT OF COMMERCE

International Trade Administration

University of Wisconsin, Madison, Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Suite 4100W, U.S. Department of Commerce, Franklin Court Building, 1099 14th Street, NW, Washington, D.C.

Docket Number: 05-017. Applicant: University of Wisconsin, Madison, WI, 53706. Instrument: High Power Pulsed Ultra-Fast Fiber Laser, Model FCPA µ Jewel B-250. Manufacturer: Aisin Seiki Co., Ltd., Japan. Intended Use: See notice at 70 FR 20356, April 19, 2005. Comments: None received. Decision: Approved. No instrument of equivalent scientific value to the foreign instrument, for such purposes as it is intended to be used, is being manufactured in the United States. Reasons: The foreign instrument provides: A fiber laser that is readily portable with turnkey operation having: (1) a wavelength > 1300 for measuring water vapor absorption,(2) pulse energy > 1 µ J and (3) a pulse duration < 1 ps.

The National Institute of Standards and Technology advised on May 6, 2005 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager Statutory Import Programs Staff.

[FR Doc. E5-2353 Filed 5-11-05; 8:45 am]

BILLING CODE 3510-DS-S